DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 56 FR 69296, October 20, 1980, as amended most recently at 71 FR 37080, dated June 29, 2006) is amended to reflect the establishment of the Writer-Editor Services Branch within the Division of Creative Services, National Center for Health Marketing, Coordinating Center for Health Information and Service.

Section C-B, Organization and Functions, is hereby amended as follows:

Following the title and functional statement for the Broadcast Production and Distribution Branch (CPBHD), Division of Creative Services (CPBH), National Center for Health Marketing (CPB), Coordinating Center for Health Information and Service (CP), insert the following:

Writer-Editor Services Branch (CPBHE). (1) Provides production editing services for CDC's information products; (2) provides production editing services for MMWR publications, Emerging Infectious Diseases (EID) journal, and Preventing Chronic Disease (PCD) journal; (3) provides substantive editing services for CDC-authored written material; (4) provides copyediting services; (5) provides proofreading services; (6) provides Web editing services; (7) provides writing services, including relevant research; and (8) provides editorial consulting services and training in writing and editing.

Delete item (1) of the functional statement for the Scientific Publications Branch (CPBGH), Division of Scientific Communications (CPBG), and insert the following: (1) Develops, plans, coordinates, and produces the MMWR series, including the MMWR Recommendations and Reports, CDC Surveillance Summaries, and Annual Summary of Notifiable Diseases.

Delete item (4) of the financial statement for the Division of Creative Services (CPBH), and insert the following: (4) provides CDC-wide services including writing and editing, umbrella contracting and other “common carrier” mechanisms to reach primary channels (e.g. broadcast and video production, message design), resources for development of materials and products (e.g. graphic arts and related services outlined in business services consolidation, and collects and/or facilities distribution of graphic resources (e.g. to engineering design and expertise to support broadcast production).

Delete item (2) of the functional statement for the Presentation Graphics and Multilingual Services Branch (CPBHC), Division of Creative Services (CPBH), and insert the following: (2) Develops and/or provides design and graphic elements for exhibits and presentations, desktop publishing, publications, and multi-language translation services, and.

Delete items (7) and (12) of the functional statement of the Information Design and Publishing Staff (CPC153), Office on Information Services (CPC15), Office of the Director (CPC1), National Center for Health Statistics (CPC), and insert the following: (7) provides design and production support for all NCHS published products, including the NCHS Web site, * * * . (12) establishes, administers, and monitors contracts to provide graphics support and printing services for NCHS; and

Delete item (11) of the functional statement for the Office of Communications (CTB12), Office of the Director (CTB1), National Center for Environmental Health (CTB), Coordinating Center for Environmental Health and Injury Prevention (CT), and insert the following: (11) provides publications-related activities including preparing articles and drafting news releases, distributing publications, and bibliographic services, and.

Delete item (8) of the functional statement for the Office of Communications (CTB12), Office of the Director (CTB1), and renumber the remaining items accordingly.

Delete item (8) of the functional statement for the Office of Communications (CTC14), Office of the Director (CTC1), National Center for Injury Prevention and Control (CTC), and insert the following: (8) manages the clearance and production of NCIPC publications.

Delete item (6) of the functional statement for the Office of the Director (CTCC1), Division of Violence Prevention (CTCC), and insert the following: (6) prepares and monitors clearance of manuscripts for publication in scientific and technical journals and publications, including articles and guidelines published in the MMWR, and other publications for the public.

Delete the title and functional statement of the Technical Information and Editiorial Services Branch (CUC12), Office of the Director (CUC1), National Center for Chronic Disease Prevention and Health Promotion (CUC), Coordinating Center for Health Promotion (CU), and insert the following: Technical Information and Services Branch (CUC12). The Technical Information and Services Branch (TISB)(1) plans, coordinates, develops, and provides NCCDPHP technical information, resources and services; (2) provides technical information acquisition, tracking, manual and electronic search services, retrieval, and reference collection services; (3) plans, coordinates, advises, and provides information management support and technical assistance to NCCDPHP divisions and their constituents to develop technical information systems and resources to meet division goals and programmatic directions; (4) develops and coordinates NCCDPHP technical information resources into computerized information databases and special bibliographics or publications; (5) works closely with state and federal agencies and NCCDPHP constituents to develop health information networks and to promote information sharing; (6) manages and coordinates NCCDPHP's scientific and editorial clearance process and DHHS clearance, as appropriate, for all print and nonprint materials, and ensures adherence to and consistency with CDC's scientific and editorial clearance process; (7) designs, develops, and coordinates the publication of communication material, including journal articles, books, reports, fact sheets, newsletters, and other forms of communication with the public health community and the general public; (8) provides leadership in the production of quality print and nonprint materials by planning and presenting seminars, by providing consultation in developing written and visual materials, and by otherwise promoting good communications practices; (9) establishes standards and coordinates the design and layout of print and nonprint materials, including tabular and graphic materials, advises NCCDPHP staff on desktop publishing, and provides desktop publishing services; (10) coordinates other publications services, such as preparing indexes, verifying reference lists, testing for readability, and translating materials from English to non-English language; (11) develops, manages, and maintains the NCCDPHP manuscript tracking system, providing an up-to-date reporting system, bibliographies of NCCDPHP publications, and input into NCCDPHP, CDC and online locator and database systems; (12) coordinates NCCDPHP's technical information and other communication activities with other CDC programs and offices; (13) represents NCCDPHP on committees, workgroups, and at conferences relating to technical information, publication activities, and other communication activities.

Delete item (8) of the functional statement for the Communications Office (CVB13), Office of the Director (CVB1), National Center for HIV, STD, and TB Prevention (CVB), Coordinating Center for Infectious Diseases (CV), and insert the following: (8) provides graphics and publishing services for NCHSTP staff.

Delete item (8) of the functional statement for the Technical Information and Communications Branch (CVBBG), Division of HIV/AIDS Prevention-Intervention Research and Support (CVBB), and insert the following: (8) prepares and monitors clearance of manuscripts for publication in scientific and technical journals and publications, including articles and guidelines in the MMWR.

Delete item (23) of the functional statement for the Communications, Education, and Behavioral Studies Branch (CVBDB), Division of Tuberculosis Elimination (CVBD), and insert the following: (23) coordinates and tracks materials for purposes of clearance and approval for publications and presentations.

Delete item (8) of the functional statement for the Office of Health Communication (CVC13), Office of the Director (CVC1), National Center for Infectious Diseases (CVC), and insert the following: (8) provides clearance assistance in the preparation of scientific articles and other documents and products for electronic and hard copy publication or presentation.

Delete item (8) of the functional statement for the Office of the Director (CVCL1), Division of Viral Hepatitis (CVCL), and insert the following: (8) provides support to DVH components in preparation of graphics and other visual arts, and conference and exhibit planning, management, and execution.

Delete item (2) of the functional statement for the CDC Connects (CAU12), Office of the Director (CAU1), Office of Enterprise Communication (CAU), Office of the Director (CA), and insert the following: (2) plans and develops articles about employees and their work.

Delete item (6) of the functional statement for the Document Development Branch (CCED), Education and Information Division (CCE), National Institute for Occupational Safety and Health (CC), and renumber the remaining items accordingly.

Dated: July 21, 2006.
William H. Gimson,
Chief Operating Officer, Centers for Disease Control and Prevention (CDC).

[FR Doc. 06-6675 Filed 8-3-06; 8:45 am]

BILLING CODE 4160-18-M